OFFICE OF PERSONNEL MANAGEMENT

Privacy Act of 1974; Computer Matching Program Between the Office of Personnel Management and the Social Security Administration

AGENCY: Office of Personnel Management (OPM).

ACTION: Notice of a computer matching program between the OPM and the Social Security Administration (SSA) for public comment.

SUMMARY: OPM is publishing notice of its computer matching program with SSA to meet the reporting and publication requirements of Public Law 100-503, the Computer Matching and Privacy Protection Act of 1988. In this match, SSA records are used in redetermining and recomputing certain annuitants' benefits where computations are based, in part, on military service performed after December 1956 under the Civil Service Retirement System (CSRS) and for annuitants under the Federal Employees' Retirement System (FERS) who have a CSRS component in their FERS annuity computation. The purpose of this match is to identify these beneficiaries.

DATES: This matching program will become effective in November 2000, or 40 days after the agreements by the parties participating in the match have been submitted to Congress and the Office of Management and Budget (OMB), unless either the Congress or OMB objects thereto. Any public comment on this matching program must be submitted on or before January 8, 2001.

ADDRESSES: Any interested party may submit written comments to William J. Washington, Acting Assistant Director for Systems, Finance and Administration, Retirement and Insurance Service, Office of Personnel Management, 1900 E Street NW., Room 4312, Washington, DC 20415.

FOR FURTHER INFORMATION CONTACT: Marc Flaster, (202) 606-2115.

SUPPLEMENTARY INFORMATION: OPM and SSA have concluded an agreement to conduct a computer matching program between the two agencies. The purpose of the agreement is to establish the conditions under which SSA agrees to the disclosure of Social Security benefit and/or tax information to OPM. OPM, as specified in 5 U.S.C. 8332(j)(1), has an obligation to use post 1956 earnings data in redetermining and recomputing annuities for certain CSRS and FERS annuitants. Section 1106 of the Social Security Act (42 U.S.C. 1306) requires that SSA disclose the needed data to OPM.

Office of Personnel Management.
Janice R. Lachance,
Director.

Report of Computer Matching Agreement Between the Office of Personnel Management and the Social Security Administration

A. Participating Agencies

OPM and SSA

B. Purpose of the Matching Program

Chapters 83 and 84 of title 5, United States Code (U.S.C.), provide the basis for computing annuities under the Civil Service Retirement System and the Federal Employees' Retirement System respectively, and require release of information by SSA in order to administer post 1956 data exchanges. In this match, SSA records are used in redetermining and recomputing certain annuitants' benefits where computations are based, in part, on military service performed after December 1956 under the Civil Service Retirement System (CSRS) and for annuitants under the Federal Employees' Retirement System (FERS) who have a CSRS component in their FERS annuity calculation. The purpose of this match is to identify these beneficiaries.

C. Authority for Conducting the Match Program

Chapters 83 and 84, title 5, United States Code, section 1106 of the Social Security Act (42 U.S.C. 1306) and the Internal Revenue Code (26 U.S.C. 6103).

D. Categories of Records and Individuals Covered by the Match

SSA will disclose information from its Master Beneficiary Record (MBR) and its Earnings Recording and Self-Employment Income System (MEF) and manually extracted post 1956 military wage information from SSA's “1086” microfilm file when required. SSA has published routine uses for these systems of records, last published for the MBR, 60-0090 (SSA/OSR) on January 6, 1995 at 60 FR 2144 and for the MEF, 60-0059 (SSA/OSR), on December 5, 1994 at 59 FR 62407.

OPM's records consist of annuity data from its system of records entitled OPM/Central-1, Civil Service Retirement and Insurance Records, last published in the Federal Register at 64 FR 54930, October 8, 1999, as amended May 3, 2000 (65 FR 25775).

E. Description of Matching Program

OPM provides a monthly electronic finder file to SSA containing data on those individuals for whom OPM requests post 1956 military service benefit information. These elements will be matched against SSA records. SSA furnishes OPM by electronic reply file benefit information on these individuals, including the amount of the SSA benefit attributable to the post 1956 military service (which constitutes the CSRS or FERS annuity reduction amount).

F. Privacy Safeguards and Security

The personal privacy of the individuals whose names are included in the tapes is protected by strict adherence to the provisions of the Privacy Act of 1974 and OMB's “Guidance Interpreting the Provisions of Public Law 100-503, the Computer Matching and Privacy Protection Act of 1988”. Access to the records used in the data exchange is restricted to only those authorized employees and officials who need it to perform their official duties. Records matched or created will be stored in an area that is physically safe from access by unauthorized personnel during duty hours as well as nonduty hours or when not in use. Records used in this exchange and any records created by this exchange will be processed under the immediate supervision and control of authorized personnel in a manner which will protect the confidentiality of the records.

Both OPM and SSA have the right to make onsite inspections or make other provisions to ensure that adequate safeguards are being maintained by the other agency.

F. Inclusive Dates of the Matching Program

This computer matching program is subject to review by the Congress and OMB. OPM's report to these parties must be received at least 40 days prior to the initiation of any matching activity. If no objections are raised by either Congress or OMB, and the mandatory 30 day public notice period for comment for this Federal Register notice expires, with no significant receipt of adverse public comments resulting in a contrary determination, then this computer matching program becomes effective. By agreement between OPM and SSA, the matching program will be in effect and continue for 18 months with an option to renew for 12 additional months under the terms set forth in 5 U.S.C. 552a(o)(2)(D).

[FR Doc. 00-31149 Filed 12-6-00; 8:45 am]

BILLING CODE 6325-01-P